FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreements are available through the Commission's website (www.fmc.gov) or by contacting the Office of Agreements at (202) 523-5793 or tradeanalysis@fmc.gov.

Agreement No.: 201272-003.

Agreement Name: KYOWA/SSL Pacific—Asia Slot Charter Agreement.

Parties: Kyowa Shipping Company, Ltd.; Swire Shipping Pte. Ltd.

Filing Party: Conte Cicala; Withers Worldwide.

Synopsis: The Amendment changes certain operational details relating to the service operating under the Agreement.

Proposed Effective Date: 4/20/2025.

Location: https://www2.fmc.gov/FMC.Agreements.Web/Public/AgreementHistory/16283.

Agreement No.: 201453.

Agreement Name: Maersk/Hapag-Lloyd Colombia Space Charter Agreement.

Parties: Hapag-Lloyd AG; Maersk AS.

Filing Party: Wayne Rohde; Cozen O'Connor.

Synopsis: The Agreement authorizes Maersk to charter space to Hapag-Lloyd in the trade between the U.S. Gulf Coast and Cartagena, Colombia.

Proposed Effective Date: 4/19/2025.

Location: https://www2.fmc.gov/FMC.Agreements.Web/Public/AgreementHistory/88605.

Dated: March 7, 2025.
Alanna Beck,
Federal Register Alternate Liaison Officer.

[FR Doc. 2025-03934 Filed 3-11-25; 8:45 am]

BILLING CODE 6730-02-P